DEPARTMENT OF LABOR

Employment and Training Administration

Agency Information Collection Activities; Comment Request

ACTION: Notice.

SUMMARY: The Department of Labor's (DOL) Employment and Training Administration (ETA) is soliciting comments concerning a proposed extension for the authority to conduct the information collection request (ICR) titled, “Alien Claims Activities Report.” This comment request is part of continuing Departmental efforts to reduce paperwork and respondent burden in accordance with the Paperwork Reduction Act of 1995 (PRA).

DATES: Consideration will be given to all written comments received by July 13, 2020.

ADDRESSES: A copy of this ICR with applicable supporting documentation, including a description of the likely respondents, proposed frequency of response, and estimated total burden, may be obtained free by contacting Anthony Vigliotti by telephone at 202-693-3066 (this is not a toll-free number), TTY 1-877-889-5627 (this is not a toll-free number), or by email at Vigliotti.Anthony.A@dol.gov.

Submit written comments about, or requests for a copy of, this ICR by mail or courier to the U.S. Department of Labor, Employment and Training Administration, Office of Unemployment Insurance, 200 Constitution Ave NW, Washington, DC 20210; by email: Vigliotti.Anthony.A@dol.gov; or by fax: 202-693-3975.

FOR FURTHER INFORMATION CONTACT: Dennis Austin by telephone at 202-693-3056 (this is not a toll-free number) or by email at Austin.Dennis@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The Immigration Reform and Control Act of 1986, Public Law 99-603, enacted November 6, 1986, amended Part A of Title XI of the Social Security Act (SSA) by adding subsections (d) and (e) to Section 1137—“Income and Eligibility Verification System”. These provisions require states to verify, through the U.S. Citizenship and Immigration Service (USCIS), the legal status of all aliens applying for benefits under certain Federally-assisted and Federally-funded programs unless their participation is waived. The USCIS verification system, commonly called the Systematic Alien Verification for Entitlement (SAVE) Program, is currently available to, and being utilized by, all states. To comply with its responsibilities under the SSA, DOL must gather information from state agencies concerning alien claimant activities. The Alien Claims Activities Report is the only source available for collecting this information. The following section explains DOL's responsibilities under the SSA and the necessity for approval of the attached Alien Claims Activities Report.

The ETA 9016 report allows DOL to determine the number of aliens filing for unemployment insurance (UI), the number of benefit issues detected, and the numbers of denials resulting from use of the USCIS SAVE system. From these data, DOL can determine the extent to which state agencies use the system, and the overall effectiveness and cost efficiency of the USCIS SAVE verification system. SSA Section 1137(d) and (e) authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0268.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension Without Changes.

Title of Collection: Alien Claims Activities Report.

Form: ETA 9016.

OMB Control Number: OMB 1205-0268.

Affected Public: State Workforce Agencies.

Estimated Number of Respondents: 53.

Frequency: Quarterly.

Total Estimated Annual Responses: 212.

Estimated Average Time per Response: 1 hour.

Estimated Total Annual Burden Hours: 212 hours.

Total Estimated Annual Other Cost Burden: $0.

(Authority: 44 U.S.C. 3506(c)(2)(A))

John Pallasch,
Assistant Secretary for Employment and Training.

[FR Doc. 2020-10078 Filed 5-11-20; 8:45 am]

BILLING CODE 4510-FW-P